FEDERAL COMMUNICATIONS COMMISSION

[CG Docket No. 17-59; DA 25-537; FR ID 301341]

Advanced Methods To Target and Eliminate Unlawful Robocalls

AGENCY: Federal Communications Commission.

ACTION: Notice.

SUMMARY: In this document, the Consumer and Governmental Affairs Bureau (CGB) announces guidelines for disposition of un-reimbursable Reassigned Numbers Database (RND) creation costs. Specifically, the Bureau establishes the methodology for disposition of RND creation costs that cannot be reimbursed to the contributing providers in the small number of circumstances where those providers have gone out of business or otherwise cannot be located.

DATES: July 8, 2025.

FOR FURTHER INFORMATION CONTACT: Rebecca Maccaroni, Consumer Policy Division, Consumer and Governmental Affairs Bureau, email at Rebecca.Maccaroni@fcc.gov or by phone at (202) 418-7603.

SUPPLEMENTARY INFORMATION: This is a summary of the CGB's Public Notice, in CG Docket No. 17-59, DA 25-537, released on June 23, 2025. The full text of this document is available online at https://docs.fcc.gov/public/attachments/DA-25-537A1.pdf. To request materials in accessible formats for people with disabilities (e.g., braille, large print, electronic files, audio format, etc.), send an email to fcc504@fcc.gov or call the Consumer & Governmental Affairs Bureau at (202) 418-0530 (voice).

Federal Communications Commission.
Robert Garza,
Legal Advisor, Consumer and Governmental Affairs Bureau.

[FR Doc. 2025-12668 Filed 7-7-25; 8:45 am]

BILLING CODE 6712-01-P